DEPARTMENT OF ENERGY

Federal Energy Regulatory Commission

[Docket Nos. RP00-331-006 and RP01-23-008 and RP03-176-004]

Algonquin Gas Transmission Company; Notice of Compliance Filing

April 16, 2004.

Take notice that on April 12, 2004, Algonquin Gas Transmission Company (Algonquin) tendered for filing as part of its FERC Gas Tariff, Fourth Revised Volume No. 1, the tariff sheets listed in Appendices A and B of the filing to be effective on September 1, 2003 and April 1, 2004, respectively.

Algonquin states that the purpose of this filing is to comply with the Commission's March 30, 2004 “Order on Rehearing and Compliance Filing” issued in Algonquin's Order No. 637 proceeding in the captioned dockets.

Algonquin states that copies of its filing have been served on all affected customers and interested state commissions, as well as to all parties on the official service lists compiled by the Secretary of the Commission in these proceedings.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-916 Filed 4-23-04; 8:45 am]

BILLING CODE 6717-01-P